ENVIRONMENTAL PROTECTION AGENCY

40 CFR Part 9

[EPA-HQ-OPPT-2010-0542; FRL-8833-7]

OMB Approvals Under the Paperwork Reduction Act; Technical Amendment

AGENCY: Environmental Protection Agency (EPA).

ACTION: Final rule.

SUMMARY: In compliance with the Paperwork Reduction Act (PRA), this technical amendment updates the table that lists the Office of Management and Budget (OMB) control numbers issued under PRA for information collection requirements contained in EPA's regulations that are promulgated in title 40 of the Code of Federal Regulations (CFR). This technical amendment adds new approvals published in the Federal Register and removes expired and terminated approvals.

DATES: This rule is effective June 30, 2010.

ADDRESSES: EPA has established a docket for this action under docket identification (ID) number EPA-HQ-OPPT-2010-0542. All documents in the docket are listed in the docket index available at http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Melissa L. Chun, Regulatory Coordination Staff (7101M), Office of Chemical Safety and Pollution Prevention, Environmental Protection Agency, 1200 Pennsylvania Ave., NW., Washington, DC 20460-0001; telephone number: (202) 564-1605; e-mail address: chun.melissa@epa.gov.

SUPPLEMENTARY INFORMATION:

I. Does this Action Apply to Me?

This action is directed to the public in general. This action may, however, be of interest to those persons who are concerned about OMB approval for information collections required by EPA regulations. Since other entities may also be interested, the Agency has not attempted to describe all the specific entities that may be affected by this action. If you have any questions regarding the applicability of this action to a particular entity, consult the person listed under FOR FURTHER INFORMATION CONTACT.

II. Background

A. Why is this Technical Amendment Being Issued?

This document updates the OMB control numbers listed in 40 CFR part 9 for various actions published in the Federal Register and issued under the Toxic Substances Control Act (TSCA) (15 U.S.C. 2601), the Federal Insecticide, Fungicide, and Rodenticide Act (FIFRA) (7 U.S.C. 136), and the Federal Food, Drug, and Cosmetic Act (FFDCA) (21 U.S.C. 408). Under PRA, 44 U.S.C. 3501 et seq., an agency may not conduct or sponsor, and a person is not required to respond to an information collection request unless it displays a currently valid OMB control number. The OMB control numbers for EPA's regulations are codified in title 40 of the CFR, after appearing in the preamble of the final rule. These numbers are listed in 40 CFR part 9, displayed in a subsequent publication in the Federal Register, or displayed by other appropriate means, such as on a related collection instrument or form, or as part of the instructions to respondents. The display of OMB control numbers in certain EPA regulations is consolidated in 40 CFR part 9. In addition to displaying the applicable OMB control number in the final rule and on the applicable collection instruments, the Office of Chemical Safety and Pollution Prevention (OCSPP) has also typically listed the OMB control number in the table at 40 CFR 9.1 for regulations it has issued under TSCA, FIFRA, and FFDCA. With this technical amendment, OCSPP is updating the table in 40 CFR 9.1 to list the OMB control number assigned to several final rules that have published since its last update.

B. Why is this Technical Amendment Issued as a Final Rule?

The information collection activities referenced in this document were previously subject to public notice and comment as part of the rulemaking process, and this action does not in any way affect the referenced information collection activities or rulemakings. This action only amends the table at 40 CFR 9.1 to update the list of OMB control numbers listed there. Due to the technical nature of the table, EPA finds that further notice and comment about amending the table is unnecessary. As a result, EPA finds that there is “good cause” under section 553(b)(3)(B) of the Administrative Procedure Act (APA), 5 U.S.C. 553(b)(3)(B), to amend this table without further notice and comment.

C. What Specific Changes are Being Made?

EPA is adding several entries to the table in 40 CFR part 9 to reflect the promulgation of new regulatory provisions since the last update of this table. The paperwork burden associated with these new provisions was approved by OMB under PRA when the rules were promulgated.

EPA is amending the OMB control numbers of several existing entries to reflect changes to the OMB control numbers since the table was last updated. For example, EPA consolidated the activities that were approved under OMB control numbers 2070-0067 (EPA ICR No. 922), 2070-0107 (EPA ICR No. 1504), and 2070-0164 (EPA ICR No. 1911) under a single OMB control number 2070-0174 (EPA ICR No. 2288). The approval of the consolidated ICR was announced in the Federal Register on June 15, 2009 (74 FR 28237) (FRL-8918-8).

EPA is removing several entries in the table in 40 CFR part 9. These entries are being removed due to erroneous entry, rule revocation, and re-designations. Since these provisions no longer exist or were erroneously entered, the corresponding listings in the table should be removed as well.

EPA is modifying the table through technical corrections to the text as well as the consolidation of several listings. Issues such as typographical errors, section duplications, and mislabeled headings are corrected through this amendment. In addition, the table listing has been consolidated into a single listing for the part when every section under a specific part shares an identical OMB control number. For information on the specific sections affected by this amendment, please refer to the docket.

III. Statutory and Executive Order Reviews

This final rule implements technical amendments to 40 CFR part 9 to reflect changes to OMB approvals under PRA. It does not otherwise impose or amend any requirements. As such, this action does not require review by OMB under Executive Order 12866, entitled Regulatory Planning and Review (58 FR 51735, October 4, 1993), the Paperwork Reduction Act (44 U.S.C. 3501 et seq.), or Executive Order 13045, entitled Protection of Children from Environmental Health Risks and Safety Risks (62 FR 19885, April 23, 1997). Nor does it impose any enforceable duty, contain any unfunded mandate, or impose any significant or unique impact on small governments as described in the Unfunded Mandates Reform Act (UMRA) (2 U.S.C. 1501 et seq.).

This action will not have substantial direct effects on State or tribal governments, on the relationship between the Federal Government and States or Indian tribes, or on the distribution of power and responsibilities between the Federal Government and States or Indian tribes. As such, it will not have any “federalism implications” as described by Executive Order 13132, entitled Federalism (64 FR 43255, August 10, 1999) or “tribal implications” as described by Executive Order 13175, entitled Consultation and Coordination with Indian Tribal Governments (65 FR 67249, November 9, 2000). Nor does it involve any technical standards that would require Agency consideration of voluntary consensus standards pursuant to section 12(d) of the National Technology Transfer and Advancement Act (NTTAA)(15 U.S.C. 272 note), environmental justice-related issues that would require consideration under Executive Order 12898, entitled Federal Actions to Address Environmental Justice in Minority Populations and Low-Income Populations (59 FR 7629, February 16, 1994), or otherwise involve anything that would have any adverse effect on the supply, distribution, or use of energy that would require consideration under Executive Order 13211, entitled Actions Concerning Regulations that Significantly Affect Energy Supply, Distribution, or Use (66 FR 28355, May 22, 2001).

In addition, since this action is not subject to notice-and-comment requirements under the APA or any other statute, it is not subject to the regulatory flexibility provisions of the Regulatory Flexibility Act (RFA) (5 U.S.C. 601 et seq.).

IV. Congressional Review Act

The Congressional Review Act (CRA), 5 U.S.C. 801 et seq., generally provides that before a rule may take effect, the agency promulgating the rule must submit a rule report to each House of the Congress and to the Comptroller General of the United States. Section 808 of CRA allows the issuing agency to make a rule effective sooner than otherwise provided by the CRA if the agency makes a good cause finding that notice and public procedure is impracticable, unnecessary, or contrary to the public interest. This determination must be supported by a brief statement (5 U.S.C. 808(2)). As stated previously, EPA has made such a good cause finding, including the reasons therefore, and established an effective date of June 30, 2010. EPA will submit a report containing this rule and other required information to the U.S. Senate, the U.S. House of Representatives, and the Comptroller General of the United States prior to publication of this rule in the Federal Register. This rule is not a “major rule” as defined by 5 U.S.C. 804(2).

List of Subjects in 40 CFR Part 9

Environmental protection, Reporting and recordkeeping requirements.

Dated: June 24, 2010.
Stephen A. Owens,
Assistant Administrator, Office of Chemical Safety and Pollution Prevention.

Therefore, 40 CFR chapter I is amended as follows:

PART 9—[AMENDED]

1. The authority citation for part 9 continues to read as follows:

Authority: 7 U.S.C. 135 et seq., 136-136y; 15 U.S.C. 2001, 2003, 2005, 2006, 2601-2671, 21 U.S.C. 331j, 346a, 348; 31 U.S.C. 9701; 33 U.S.C. 1251 et seq., 1311, 1313d, 1314, 1318, 1321, 1326, 1330, 1342, 1344, 1345(d) and (e), 1361; E.O. 11735, 38 FR 21243, 3 CFR 1971-1975, Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1, the table is amended by revising the entry “Part 155” under the undesignated center heading “Registration Standards and Registration Review” to read as follows:

§ 9.1 OMB approvals under the Paperwork Reduction Act.

40 CFR citation | OMB control No.
* * * * *
Registration Standards and Registration Review
Part 155 | 2070-0174
* * * * *

3. In § 9.1, the table is amended by removing all entries (156.10-156.212) under the undesignated center heading “Labeling Requirements for Pesticides and Devices” and adding in their place “Part 156” to read as follows:

§ 9.1 OMB approvals under the Paperwork Reduction Act.

40 CFR citation | OMB control No.
* * * * *
Labeling Requirements for Pesticides and Devices
Part 156 | 2070-0060
* * * * *

4. In § 9.1, the table is amended by removing all entries (157.22-157.36) under the undesignated center heading “Packaging Requirements for Pesticides and Devices” and adding in their place “Part 157” to read as follows:

§ 9.1 OMB approvals under the Paperwork Reduction Act.

40 CFR citation | OMB control No.
* * * * *
Packaging Requirements for Pesticides and Devices
Part 157 | 2070-0052
* * * * *

5. In § 9.1, the table is amended by removing all entries (158.32-158.2100) under the undesignated center heading “Data Requirements for Registration” and adding in their place “Part 158” to read as follows:

§ 9.1 OMB approvals under the Paperwork Reduction Act.

40 CFR citation | OMB control No.
* * * * *
Data Requirements for Registration
Part 158 | 2070-0040, 2070-0060, 2070-0174
* * * * *

6. In § 9.1, the table is amended by revising the entry “Part 160” under the undesignated center heading “Good Laboratory Practice Standards” to read as follows:

§ 9.1 OMB approvals under the Paperwork Reduction Act.

40 CFR citation | OMB control No.
* * * * *
Good Laboratory Practice Standards
Part 160 | 2070-0024, 2070-0032, 2070-0040, 2070-0055, 2070-0060, 2070-0174
* * * * *

7. In § 9.1, the table is amended by removing all entries (161.30-161.740) under the undesignated center heading “Data Requirements for Registration of Antimicrobial Pesticides” and adding in their place “Part 161” to read as follows:

§ 9.1 OMB approvals under the Paperwork Reduction Act.

40 CFR citation | OMB control No.
* * * * *
Data Requirements for Registration of Antimicrobial Pesticides
Part 161 | 2070-0040, 2070-0060, 2070-0174
* * * * *

8. In § 9.1, the table is amended by removing all entries (166.20-166.50) under the undesignated center heading “Exemption of Federal and State Agencies for Use of Pesticides Under Emergency Conditions” and adding in their place “Part 166” to read as follows:

§ 9.1 OMB approvals under the Paperwork Reduction Act.

40 CFR citation | OMB control No.
* * * * *
Exemption of Federal and State Agencies for Use of Pesticides Under Emergency Conditions
Part 166 | 2070-0032
* * * * *

9. In § 9.1, the table is amended by removing all entries (171.7-171.11) under the undesignated center heading “Certification of Pesticide Applicators” and adding in their place “Part 171” to read as follows:

§ 9.1 OMB approvals under the Paperwork Reduction Act.

40 CFR citation | OMB control No.
* * * * *
Certification of Pesticide Applicators
Part 171 | 2070-0029
* * * * *

10. In § 9.1, the table is amended by removing all entries (172.4-172.8) under the undesignated center heading “Experimental Use Permits” and adding in their place “Part 172” read as follows:

§ 9.1 OMB approvals under the Paperwork Reduction Act.

40 CFR citation | OMB control No.
* * * * *
Experimental Use Permits
Part 172 | 2070-0040
* * * * *

11. In § 9.1, the table is amended by removing all entries (174.9-174.71) under the undesignated center heading “Procedures and Requirements for Plant-Incorporated Protectants” and adding in their place “Part 174” to read as follows:

§ 9.1 OMB approvals under the Paperwork Reduction Act.

40 CFR citation | OMB control No.
* * * * *
Procedures and Requirements for Plant-Incorporated Protectants
Part 174 | 2070-0142
* * * * *

12. In § 9.1, the table is amended as follows:

i. Revise the undesignated center heading “Tolerances and Exemptions from Tolerances for Pesticide Chemicals in or on Raw Agricultural Commodities” to read “Tolerances and Exemptions for Pesticide Chemical Residues in Food.”

ii. Remove all entries (180.7-180.33) under the newly revised undesignated center heading “Tolerances and Exemptions for Pesticide Chemical Residues in Food” and add in their place “Part 180” to read as follows:

§ 9.1 OMB approvals under the Paperwork Reduction Act.

40 CFR citation | OMB control No.
* * * * *
Tolerances and Exemptions for Pesticide Chemical Residues in Food
Part 180 | 2070-0024
* * * * *

13. In § 9.1, the table is amended by removing all entries (704.5-704.175) under the undesignated center heading “Reporting and Recordkeeping Requirements” and adding in their place “Part 704” to read as follows:

§ 9.1 OMB approvals under the Paperwork Reduction Act.

40 CFR citation | OMB control No.
* * * * *
Reporting and Recordkeeping Requirements
Part 704 | 2070-0067
* * * * *

14. In § 9.1, the table is amended by removing all entries (707.65-707.72) under the undesignated center heading “Chemical Imports and Exports” and adding in their place “Part 707” to read as follows:

§ 9.1 OMB approvals under the Paperwork Reduction Act.

40 CFR citation | OMB control No.
* * * * *
Chemical Imports and Exports
Part 707 | 2070-0030
* * * * *

15. In § 9.1, the table is amended by removing all entries (717.5-717.17) under the undesignated center heading “Records and Reports of Allegations That Chemical Substances Cause Significant Adverse Reactions to Health or the Environment” and adding in their place “Part 717” to read as follows:

§ 9.1 OMB approvals under the Paperwork Reduction Act.

40 CFR citation | OMB control No.
* * * * *
Records and Reports of Allegations That Chemical Substances Cause Significant Adverse Reactions to Health or the Environment
Part 717 | 2070-0017
* * * * *

16. In § 9.1, the table is amended by removing all entries (720.1-720.38; Part 720, subpart C; 720.62-720.102; and Part 720, appendix A) under the undesignated center heading “Premanufacture Notification” and adding in their place “Part 720” to read as follows:

§ 9.1 OMB approvals under the Paperwork Reduction Act.

40 CFR citation | OMB control No.
* * * * *
Premanufacture Notification
Part 720 | 2070-0012
* * * * *

17. In § 9.1, the table is amended by removing entries 721.526, 721.528, 721.567, 721.637, 721.2082, 721.2225, 721.3254, 721.3390, 721.3850, 721.5687, 721.5718, 721.5730, 721.6197, 721.6600, 721.6625, 721.9785, and 721.9810 under the undesignated center heading “Significant New Uses of Chemical Substances.”

18. In § 9.1, the table is amended by adding in numerical order the entries listed below under the undesignated center heading “Significant New Uses of Chemical Substances” to read as follows:

§ 9.1 OMB approvals under the Paperwork Reduction Act.

40 CFR citation | OMB control No.
* * * * *
Significant New Uses of Chemical Substances
* * * * *
721.984 | 2070-0012
* * * * *
721.3020 | 2070-0012
* * * * *
721.4792 | 2070-0012
* * * * *
721.10000 | 2070-0012
721.10001 | 2070-0012
721.10002 | 2070-0012
721.10003 | 2070-0012
721.10004 | 2070-0012
721.10005 | 2070-0012
721.10006 | 2070-0012
721.10007 | 2070-0012
721.10008 | 2070-0012
721.10009 | 2070-0012
721.10010 | 2070-0012
721.10011 | 2070-0012
721.10012 | 2070-0012
721.10013 | 2070-0012
721.10014 | 2070-0012
721.10015 | 2070-0012
721.10016 | 2070-0012
721.10017 | 2070-0012
721.10018 | 2070-0012
721.10019 | 2070-0012
721.10020 | 2070-0012
721.10021 | 2070-0012
721.10022 | 2070-0012
721.10023 | 2070-0012
721.10024 | 2070-0012
721.10025 | 2070-0012
721.10026 | 2070-0012
721.10027 | 2070-0012
721.10028 | 2070-0012
721.10029 | 2070-0012
721.10030 | 2070-0012
721.10031 | 2070-0012
721.10032 | 2070-0012
721.10033 | 2070-0012
721.10034 | 2070-0012
721.10035 | 2070-0012
721.10036 | 2070-0012
721.10037 | 2070-0012
721.10038 | 2070-0012
721.10039 | 2070-0012
721.10040 | 2070-0012
721.10041 | 2070-0012
721.10042 | 2070-0012
721.10043 | 2070-0012
721.10044 | 2070-0012
721.10045 | 2070-0012
721.10046 | 2070-0012
721.10047 | 2070-0012
721.10048 | 2070-0012
721.10049 | 2070-0012
721.10050 | 2070-0012
721.10051 | 2070-0012
721.10052 | 2070-0012
721.10053 | 2070-0012
721.10054 | 2070-0012
721.10055 | 2070-0012
721.10056 | 2070-0012
721.10058 | 2070-0012
721.10059 | 2070-0012
721.10060 | 2070-0012
721.10061 | 2070-0012
721.10062 | 2070-0012
721.10063 | 2070-0012
721.10064 | 2070-0012
721.10065 | 2070-0012
721.10066 | 2070-0012
721.10067 | 2070-0012
* * * * *
721.10070 | 2070-0012
721.10071 | 2070-0012
721.10072 | 2070-0012
721.10073 | 2070-0012
721.10074 | 2070-0012
721.10075 | 2070-0012
721.10076 | 2070-0012
721.10077 | 2070-0012
721.10078 | 2070-0012
721.10079 | 2070-0012
721.10080 | 2070-0012
721.10081 | 2070-0012
721.10082 | 2070-0012
721.10083 | 2070-0012
721.10084 | 2070-0012
721.10085 | 2070-0012
721.10086 | 2070-0012
721.10087 | 2070-0012
721.10089 | 2070-0012
721.10090 | 2070-0012
721.10091 | 2070-0012
721.10092 | 2070-0012
721.10093 | 2070-0012
721.10094 | 2070-0012
721.10095 | 2070-0012
721.10096 | 2070-0012
721.10097 | 2070-0012
721.10098 | 2070-0012
721.10099 | 2070-0012
721.10100 | 2070-0012
721.10101 | 2070-0012
721.10102 | 2070-0012
721.10103 | 2070-0012
721.10104 | 2070-0012
721.10105 | 2070-0012
721.10106 | 2070-0012
721.10107 | 2070-0012
721.10108 | 2070-0012
721.10109 | 2070-0012
721.10110 | 2070-0012
721.10111 | 2070-0012
721.10112 | 2070-0012
721.10113 | 2070-0012
721.10114 | 2070-0012
721.10115 | 2070-0012
721.10116 | 2070-0012
721.10117 | 2070-0012
721.10118 | 2070-0012
721.10119 | 2070-0012
721.10120 | 2070-0012
721.10121 | 2070-0012
721.10122 | 2070-0012
721.10123 | 2070-0012
721.10124 | 2070-0012
721.10125 | 2070-0012
721.10126 | 2070-0012
721.10127 | 2070-0012
721.10128 | 2070-0012
721.10129 | 2070-0012
721.10130 | 2070-0012
721.10131 | 2070-0012
721.10132 | 2070-0012
721.10133 | 2070-0012
721.10134 | 2070-0012
721.10135 | 2070-0012
721.10136 | 2070-0012
721.10137 | 2070-0012
721.10138 | 2070-0012
721.10139 | 2070-0012
721.10140 | 2070-0012
721.10141 | 2070-0012
721.10142 | 2070-0012
721.10143 | 2070-0012
721.10144 | 2070-0012
721.10145 | 2070-0012
721.10146 | 2070-0012
721.10147 | 2070-0012
721.10148 | 2070-0012
721.10149 | 2070-0012
721.10150 | 2070-0012
721.10151 | 2070-0012
721.10152 | 2070-0012
721.10153 | 2070-0012
721.10154 | 2070-0012
* * * * *
* * * * *

19. In § 9.1, the table is amended by removing all entries (723.50-723.250) under the undesignated center heading “Premanufacture Notification Exemptions” and adding in their place “Part 723” to read as follows:

§ 9.1 OMB approvals under the Paperwork Reduction Act.

40 CFR citation | OMB control No.
* * * * *
Premanufacture Notification Exemptions
Part 723 | 2070-0012
* * * * *

20. In § 9.1, the table is amended by removing the entry “725.1075” under the undesignated center heading “Reporting Requirements and Review Processes for Microorganisms” and adding in its place “Part 725” to read as follows:

§ 9.1 OMB approvals under the Paperwork Reduction Act.

40 CFR citation | OMB control No.
* * * * *
Reporting Requirements and Review Processes for Microorganisms
Part 725 | 2060-0012
* * * * *

21. In § 9.1, the table is amended by removing all entries (Part 749, subpart D and 749.68) under the undesignated center heading “Water Treatment Chemicals” and adding in their place “Part 749” to read as follows:

§ 9.1 OMB approvals under the Paperwork Reduction Act.

40 CFR citation | OMB control No.
* * * * *
Water Treatment Chemicals
Part 749 | 2060-0193
* * * * *

22. In § 9.1, the table is amended by removing all entries (761.20-761.398) under the undesignated center heading “Polychlorinated Biphenyls (PCBs) Manufacturing, Processing, Distribution in Commerce, and Use Prohibitions” and adding in their place “Part 761” to read as follows:

§ 9.1 OMB approvals under the Paperwork Reduction Act.

40 CFR citation | OMB control No.
* * * * *
Polychlorinated Biphenyls (PCBs) Manufacturing, Processing, Distribution in Commerce, and Use Prohibitions
Part 761 | 2060-0112
* * * * *

23. In § 9.1, the table is amended by removing the entry “766.35(d) Form” under the undesignated center heading “Dibenzo-para-dioxin/Dibenzofurans.”

24. In § 9.1, the table is amended by amended by removing all entries (790.5-790.99) under the undesignated center heading “Procedures Governing Testing Consent Agreements and Test Rules” and adding in their place “Part 790” to read as follows:

§ 9.1 OMB approvals under the Paperwork Reduction Act.

40 CFR citation | OMB control No.
* * * * *
Procedures Governing Testing Consent Agreements and Test Rules
Part 790 | 2060-0033
* * * * *

25. In § 9.1, the table is amended by removing the entry “795.45” under the undesignated center heading “Provisional Test Guidelines.”

26. In § 9.1, the table is amended by removing all entries (799.1053-799.5115) under the undesignated center heading “Identification of Specific Chemical Substance and Mixture Testing Requirements” and adding in their place “Part 799” to read as follows:

§ 9.1 OMB approvals under the Paperwork Reduction Act.

40 CFR citation | OMB control No.
* * * * *
Identification of Specific Chemical Substance and Mixture Testing Requirements
Part 799 | 2060-0033
* * * * *

[FR Doc. 2010-15863 Filed 6-29-10; 8:45 am]

BILLING CODE 6560-50-S